DEPARTMENT OF TRANSPORTATION

Federal Aviation Administration

14 CFR Part 39

[Docket No. FAA-2008-1361; Directorate Identifier 2008-NM-140-AD; Amendment 39-15858; AD 2009-06-21]

RIN 2120-AA64

Airworthiness Directives; Bombardier Model DHC-8-102, -103, and -106 Airplanes, and Model DHC-8-200, -300, and -400 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

A fuselage spoiler cable disconnect sensing device was installed in production on later DHC-8 Series 100/200/300 aircraft, and on all DHC-8 Series 400 aircraft. On earlier DHC-8 Series 100/200/300 aircraft, its installation was mandated by [Canadian] Airworthiness Directive CF-2006-13 [which corresponds to FAA AD 2007-21-16].

However, several incorrectly assembled spoiler cable disconnect sensing devices have recently been discovered on in-service aircraft. A pulley and plastic spacer had been inadvertently interchanged during assembly of the device in production, resulting in the spoiler cable sliding on the spacer rather than on the pulley, as designed.

Continued operation with an incorrectly assembled spoiler cable disconnect sensing device could result in impaired operation of the sensing device and/or an eventual fuselage spoiler cable disconnect, with possible reduced controllability of the aircraft.

We are issuing this AD to require actions to correct the unsafe condition on these products.

DATES: This AD becomes effective April 28, 2009.

The Director of the Federal Register approved the incorporation by reference of certain publications listed in this AD as of April 28, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Parrillo, Aerospace Engineer, Airframe and Propulsion Branch, ANE-171, FAA, New York Aircraft Certification Office, 1600 Stewart Avenue, Suite 410, Westbury, New York 11590; telephone (516) 228-7305; fax (516) 794-5531.

SUPPLEMENTARY INFORMATION:

Discussion

We issued a notice of proposed rulemaking (NPRM) to amend 14 CFR part 39 to include an AD that would apply to the specified products. That NPRM was published in the Federal Register on January 12, 2009 (74 FR 1164). That NPRM proposed to correct an unsafe condition for the specified products. The MCAI states:

A fuselage spoiler cable disconnect sensing device was installed in production on later DHC-8 Series 100/200/300 aircraft, and on all DHC-8 Series 400 aircraft. On earlier DHC-8 Series 100/200/300 aircraft, its installation was mandated by [Canadian] Airworthiness Directive CF-2006-13 [which corresponds to FAA AD 2007-21-16].

However, several incorrectly assembled spoiler cable disconnect sensing devices have recently been discovered on in-service aircraft. A pulley and plastic spacer had been inadvertently interchanged during assembly of the device in production, resulting in the spoiler cable sliding on the spacer rather than on the pulley, as designed.

Continued operation with an incorrectly assembled spoiler cable disconnect sensing device could result in impaired operation of the sensing device and/or an eventual fuselage spoiler cable disconnect, with possible reduced controllability of the aircraft.

Required actions include inspecting the fuselage spoiler cable disconnect sensing device and, if necessary, inspecting components for wear and damage, replacing worn or damaged components, and correctly re-assembling the sensing device. You may obtain further information by examining the MCAI in the AD docket.

Comments

We gave the public the opportunity to participate in developing this AD. We received no comments on the NPRM or on the determination of the cost to the public.

Change to the NPRM

We clarified the DHC-8 model designation in paragraph (f)(2) of the AD. That designation was missing in the NPRM.

Conclusion

We reviewed the available data and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 145 products of U.S. registry. We also estimate that it will take 1 work-hour per product to comply with the basic requirements of this AD. The average labor rate is $80 per work-hour. Based on these figures, we estimate the cost of this AD to the U.S. operators to be $11,600, or $80 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-06-21 Bombardier, Inc. (Formerly de Havilland, Inc.): Amendment 39-15858. Docket No. FAA-2008-1361; Directorate Identifier 2008-NM-140-AD.

Effective Date

(a) This airworthiness directive (AD) becomes effective April 28, 2009.

Affected ADs

(b) None.

Applicability

(c) This AD applies to the following Bombardier Model DHC-8 airplanes, certificated in any category.

(1) Model DHC-8-102, -103, -106, -201, -202, -301, -311, and -315 series airplanes, serial numbers 003 through 644 inclusive.

(2) Model DHC-8-400, -401 and -402 series airplanes, serial numbers 4003, 4004, 4006, and 4008 through 4164 inclusive.

Subject

(d) Air Transport Association (ATA) of America Code 27: Flight controls.

Reason

(e) The mandatory continuing airworthiness information (MCAI) states:

A fuselage spoiler cable disconnect sensing device was installed in production on later DHC-8 Series 100/200/300 aircraft, and on all DHC-8 Series 400 aircraft. On earlier DHC-8 Series 100/200/300 aircraft, its installation was mandated by [Canadian] Airworthiness Directive CF-2006-13 [which corresponds to FAA AD 2007-21-16].

However, several incorrectly assembled spoiler cable disconnect sensing devices have recently been discovered on in-service aircraft. A pulley and plastic spacer had been inadvertently interchanged during assembly of the device in production, resulting in the spoiler cable sliding on the spacer rather than on the pulley, as designed.

Continued operation with an incorrectly assembled spoiler cable disconnect sensing device could result in impaired operation of the sensing device and/or an eventual fuselage spoiler cable disconnect, with possible reduced controllability of the aircraft.

Required actions include inspecting the fuselage spoiler cable disconnect sensing device and, if necessary, inspecting components for wear and damage, replacing worn or damaged components, and correctly re-assembling the sensing device.

Actions and Compliance

(f) Unless already done, do the following.

(1) For Bombardier Model DHC-8-102, -103, -106, -201, -202, -301, -311, and -315 series airplanes, serial numbers 003 through 561 inclusive: Do the actions required by paragraph (f)(1)(i) or (f)(1)(ii) of this AD, as applicable, in accordance with paragraph 3.B., Part A, of Bombardier Service Bulletin 8-27-107, dated October 16, 2007.

(i) For airplanes on which fuselage spoiler cable disconnect sensing device, Modsum 8Q100898, has been installed as of the effective date of this AD: Within 1,000 flight hours after the effective date of this AD, inspect the fuselage spoiler cable disconnect sensing device for correct assembly.

(ii) For airplanes on which fuselage spoiler cable disconnect sensing device, Modsum 8Q100898, has not been installed as of the effective date of this AD: Concurrently with the installation of Modsum 8Q100898, inspect the fuselage spoiler cable disconnect sensing device for correct assembly.

Note 1: AD 2007-21-16, amendment 39-15234, requires the installation of Modsum 8Q100898.

(2) For Bombardier Model DHC-8-102, -103, -106, -201, -202, -301, -311, and -315 series airplanes, serial numbers 562 through 644 inclusive: Within 1,000 flight hours after the effective date of this AD, inspect the fuselage spoiler cable disconnect sensing device for correct assembly in accordance with paragraph 3.B., Part A, of Bombardier Service Bulletin 8-27-107, dated October 16, 2007.

Note 2: The fuselage spoiler cable disconnect sensing device was installed in production on the airplanes identified in paragraph (f)(2) of this AD.

(3) For Bombardier Model DHC-8-400, -401, and -402 series airplanes, serial numbers 4003, 4004, 4006, and 4008 through 4164 inclusive: Within 1,000 flight hours after the effective date of this AD, inspect the fuselage spoiler cable disconnect sensing device for correct assembly in accordance with paragraph 3.B., Part A, of Bombardier Service Bulletin 84-27-34, dated October 3, 2007.

Note 3: The fuselage spoiler cable disconnect sensing device was installed in production on the airplanes identified in paragraph (f)(3) of this AD.

(4) For all airplanes: If an incorrectly assembled sensing device is detected during any inspection required by paragraph (f)(1), (f)(2), or (f)(3) of this AD, before further flight, inspect the components, replace worn or damaged components, and correctly re-assemble the sensing device. Do the actions in accordance with paragraph 3.B., Part B, of Bombardier Service Bulletin 8-27-107, dated October 16, 2007; or Bombardier Service Bulletin 84-27-34, dated October 3, 2007; as applicable.

FAA AD Differences

Note 4: This AD differs from the MCAI and/or service information as follows: No difference.

Other FAA AD Provisions

(g) The following provisions also apply to this AD:

(1) Alternative Methods of Compliance (AMOCs): The Manager, New York Aircraft Certification Office, FAA, has the authority to approve AMOCs for this AD, if requested using the procedures found in 14 CFR 39.19. Send information to ATTN: Dan Parrillo, Aerospace Engineer, Airframe and Propulsion Branch, ANE-171, FAA, New York Aircraft Certification Office, 1600 Stewart Avenue, Suite 410, Westbury, New York 11590; telephone (516) 228-7305; fax (516) 794-5531. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI Canadian Airworthiness Directive CF-2008-28, dated July 10, 2008; Bombardier Service Bulletin 84-27-34, dated October 3, 2007; and Bombardier Service Bulletin 8-27-107, dated October 16, 2007; for related information.

Material Incorporated by Reference

(i) You must use Bombardier Service Bulletin 8-27-107, dated October 16, 2007; and Bombardier Service Bulletin 84-27-34, dated October 3, 2007; as applicable; to do the actions required by this AD, unless the AD specifies otherwise.

(1) The Director of the Federal Register approved the incorporation by reference of this service information under 5 U.S.C. 552(a) and 1 CFR part 51.

(2) For service information identified in this AD, contact Bombardier, Inc., 400 Cóte-Vertu Road West, Dorval, Québec H4S 1Y9, Canada; telephone 514-855-5000; fax 514-855-7401; e-mail thd.qseries@aero.bombardier.com; Internet http://www.bombardier.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on March 12, 2009.
Ali Bahrami,
Manager, Transport Airplane Directorate, Aircraft Certification Service.

[FR Doc. E9-5964 Filed 3-23-09; 8:45 am]

BILLING CODE 4910-13-P